DEPARTMENT OF AGRICULTURE

Forest Service

East Fork of the Jemez Wild and Scenic River, Santa Fe National Forest, Sandoval County, New Mexico; Boundary Establishment

AGENCY: Forest Service, USDA.

ACTION: Notice of Availability.

SUMMARY: In accordance with 16 U.S.C. 1274, the USDA Forest Service has transmitted the final boundary of the East Fork of the Jemez Wild and Scenic River to the Senate and House of Representatives.

FOR FURTHER INFORMATION CONTACT: Information may be obtained by contacting Diane Tafoya, Recreation Staff Officer, Jemez Ranger District, P.O. Box 98, Jemez Springs, NM 87025, 505-829-3535.

SUPPLEMENTARY INFORMATION: The detailed legal description and map of the East Fork of the Jemez Wild and Scenic River boundary are available for public inspection in the following Forest Service offices: USDA Forest Service Auditors Building, 201 14th St. SW at Independence Ave. SW, Washington, DC; USDA-FS Southwestern Regional Office, 517 Gold Ave SW, Albuquerque, NM; USDA-FS Santa Fe National Forest, 1474 Rodeo Rd., Santa Fe, NM; USDA-FS Jemez Ranger Station, Jemez Springs, NM.

The Wild and Scenic Rivers Act, Public Law 90-542, as amended by Public Law 101-306 on June 6, 1990 designated the 11-mile segment of the East Fork of the Jemez River, from the Santa Fe National Forest boundary to its confluence with the Rio San Antonio, to be administered by the Secretary of Agriculture in the following classifications: (a) The 2-mile segment for the Santa Fe National Forest boundary to the second crossing of State Highway 4, near Las Conchas trailhead, as a recreational river; and (b) the 4-mile segment from the second crossing of State Highway 4, near Las Conchas trailhead, to the third crossing of State Highway 4 approximately one and one-quarter miles upstream from Jemez Falls, as a wild river; and (c) the 5-mile segment from the third crossing of State Highway 4, approximately one and one-quarter miles upstream from Jemez Falls, to its confluence with the Rio San Antonio, as a scenic river. The final boundary for the designated segments approximately follows the original corridor boundary of ¼-mile of the ordinary high water mark on each side of the river, with adjustments made in order to follow legal and locatable landlines.

Dated: March 10, 2000.
James T. Gladen,
Deputy Regional Forester.

[FR Doc. 00-7281 Filed 3-23-00; 8:45 am]

BILLING CODE 3410-11-M